DEPARTMENT OF THE INTERIOR

Bureau of Indian Affairs

[201D0102DR/DS5A300000/DR.5A311.IA000118]

National Tribal Broadband Grant; Extension of Application Deadline

AGENCY: Bureau of Indian Affairs, Interior.

ACTION: Notice.

SUMMARY: The Bureau of Indian Affairs published a document in the Federal Register of February 10, 2020, that announced a grant funding opportunity for Tribes to hire consultants to perform feasibility studies for deployment or expansion of high-speed internet (broadband) transmitted, variously, through digital subscriber line (DSL), cable modem, fiber, wireless, satellite and broadband over power lines (BPL). This notice extends the application deadline.

DATES: Applications and mandatory attachments will be accepted until 11:59 p.m. EST on Monday, June 15, 2020. Applications and mandatory attachments received after this time and date stamp will not be considered by the Awarding Official.

ADDRESSES: Applicants must submit a completed Application for Federal Assistance SF-424 and the Project Narrative Attachment form in a single email to IEEDBroadbandGrants@bia.gov, Attention: Ms. Jo Ann Metcalfe, Certified Grant Specialist, Bureau of Indian Affairs.

FOR FURTHER INFORMATION CONTACT: Mr. James R. West, National Tribal Broadband Grant (NTBG) Manager, Office of Indian Energy and Economic Development, Room 6049-B, 12220 Sunrise Valley Drive, Reston, Virginia 20191; telephone: (202) 595-4766; email: jamesr.west@bia.gov.

SUPPLEMENTARY INFORMATION: On February 10, 2020, the Office of Indian Energy and Economic Development (IEED), Office of the Assistant Secretary—Indian Affairs, published a solicitation for proposals from Indian Tribes, as defined at 25 U.S.C. 5304(e), for grant funding to hire consultants to perform feasibility studies for deployment or expansion of broadband transmitted, variously, through DSL, cable modem, fiber, wireless, satellite, and BPL (85 FR 7580). This notice announced an application deadline of May 8, 2020. The deadline has been extended from May 8, 2020, to June 15, 2020 due to the COVI-19 crisis.

National Tribal Broadband Grants (NTBG) may be used to fund an assessment of the current broadband services, if any, that are available to an applicant's community; an engineering assessment of new or expanded broadband services; an estimate of the cost of building or expanding a broadband network; a determination of the transmission medium(s) that will be employed; identification of potential funding and/or financing for the network; and consideration of financial and practical risks associated with developing a broadband network.

The purpose of the NTBG is to improve the quality of life, spur economic development and commercial activity, create opportunities for self-employment, enhance educational resources and remote learning opportunities, and meet emergency and law enforcement needs by bringing broadband services to Native American communities that lack them.

Feasibility studies funded through NTBG will assist Tribes to make informed decisions regarding deployment or expansion of broadband in their communities.

Award Ceiling: 50,000.

Award Floor: 40,000.

CFDA Numbers: 15.032.

Cost Sharing or Matching Requirement: No.

Number of Awards: 25-30.

Category: Communications.

Authority: This is a discretionary grant program authorized under the Snyder Act (25 U.S.C.13) and the Further Consolidated Appropriations Act 2020 (Pub. L. 116-94). The Snyder Act authorizes the BIA to expend such moneys as Congress may appropriate for the benefit, care, and assistance of Indians for the purposes listed in the Act. Broadband deployment or expansion facilitates two of the purposes listed in the Snyder Act: “General support and civilization, including education” and “industrial assistance and advancement.” The Further Consolidated Appropriations Act 2020 authorizes the BIA to “carry out the operation of Indian programs by direct expenditure, contracts, cooperative agreements, compacts, and grants, either directly or in cooperation with States and other organizations.”

Tara Sweeney,
Assistant Secretary—Indian Affairs.

[FR Doc. 2020-09388 Filed 5-1-20; 8:45 am]

BILLING CODE 4337-15-P